DEPARTMENT OF COMMERCE

International Trade Administration

[C-570-953]

Narrow Woven Ribbons With Woven Selvedge From the People's Republic of China: Notice of Court Decision Not in Harmony With the Results of Countervailing Duty Administrative Review; Notice of Amended Final Results

AGENCY: Enforcement and Compliance, International Trade Administration, Department of Commerce.

SUMMARY: On August 13, 2024, the U.S. Court of International Trade (CIT) issued its final judgment in Yama Ribbons and Bows Co., Ltd. v. United States, Court No. 21-00402, sustaining the U.S. Department of Commerce's (Commerce) final results of redetermination pertaining to the administrative review of the countervailing duty order on narrow woven ribbons with woven selvedge (ribbons) from the People's Republic of China (China) covering the period January 1, 2018, through December 31, 2018. Commerce is notifying the public that the CIT's final judgment is not in harmony with Commerce's final results of the administrative review, and that Commerce is amending the final results with respect to the countervailable subsidy rate assigned to Yama Ribbons and Bows Co. (Yama).

DATES: Applicable August 23, 2024.

FOR FURTHER INFORMATION CONTACT: Ajay K. Menon, AD/CVD Operations, Office IX, Enforcement and Compliance, International Trade Administration, U.S. Department of Commerce, 1401 Constitution Avenue NW, Washington, DC 20230; telephone: (202) 482-0208.

SUPPLEMENTARY INFORMATION:

Background

On July 28, 2021, Commerce published its final results of the 2018 countervailing duty administrative review of ribbons from China.¹ In the Final Results, Commerce assigned Yama an overall subsidy rate of 42.20 percent based, in part, on adverse facts available (AFA) for the Export Buyer's Credit Program (EBCP) and the provision of synthetic yarn and caustic soda for less than adequate remuneration (LTAR).

¹ See Narrow Woven Ribbons with Woven Selvedge from the People's Republic of China: Final Results of Countervailing Duty Administrative Review; 2018, 86 FR 40462 (July 28, 2021) (Final Results).

Yama appealed Commerce's Final Results. On August 25, 2023, the CIT remanded the Final Results to Commerce, directing Commerce to: (1) reconsider its determination on the EBCP; (2) supplement the record with the new subsidy allegation, which the petitioner filed in the 2015 administrative review of this proceeding and upon which Commerce relied in making its specificity determinations for the provision of synthetic yarn and caustic soda for LTAR programs; and (3) reconsider its determinations for the provision of the synthetic yarn and caustic soda for LTAR programs in their entirety.²

² See Yama Ribbons and Bows Co., Ltd. v. United States, 653 F. Supp. 3d 1314 (CIT 2023).

In its final remand redetermination, issued in October 2023, Commerce reconsidered its decision to apply AFA in evaluating use of the EBCP and determined, under respectful protest, that the EBCP was not used by Yama during the period of review (POR).³ Commerce also further considered the supplemented administrative record regarding the provision of synthetic yarn and caustic soda for LTAR programs and continued to find that these programs were specific and that Yama benefited from them during the POR. Accordingly, Commerce calculated a revised subsidy rate for Yama of 31.66 percent.⁴ The CIT sustained Commerce's final remand redetermination.⁵

³ See Final Results of Redetermination Pursuant to Court Remand, Yama Ribbons and Bows Co., Ltd. v. United States, Court No. 21-00402, Slip Op. 23-127 (CIT August 25, 2023), dated October 24, 2023, available at https://access.trade.gov/public/FinalRemandRedetermination.aspx.

⁴ Id. at 21.

⁵ See Yama Ribbons and Bows Co., Ltd., v. United States, Court No. 21-00402, Slip Op. 24-92 (CIT August 13, 2024).

Timken Notice

In its decision in Timken,⁶ as clarified by Diamond Sawblades,⁷ the U.S. Court of Appeals for the Federal Circuit held that, pursuant to section 516A(c) and (e) of the Tariff Act of 1930, as amended (the Act), Commerce must publish a notice of court decision that is not “in harmony” with a Commerce determination and must suspend liquidation of entries pending a “conclusive” court decision. The CIT's August 13, 2024, judgment constitutes a final decision of the CIT that is not in harmony with Commerce's Final Results. Thus, this notice is published in fulfillment of the publication requirements of Timken.

⁶ See Timken Co. v. United States, 893 F.2d 337 (Fed. Cir. 1990) (Timken).

⁷ See Diamond Sawblades Manufacturers Coalition v. United States, 626 F.3d 1374 (Fed. Cir. 2010) (Diamond Sawblades).

Amended Final Results

Because there is now a final court judgment, Commerce is amending its Final Results with respect to Yama as follows:

Company | Subsidy rate (percent ad valorem)
Yama Ribbons and Bows Co., Ltd | 31.66

Cash Deposit Requirements

Because Yama has a superseding cash deposit rate, i.e., there have been final results published in a subsequent administrative review, we will not issue revised cash deposit instructions to U.S. Customs and Border Protection (CBP). This notice will not affect the current cash deposit rate for Yama.

Liquidation of Suspended Entries

At this time, Commerce remains enjoined by CIT order from liquidating entries that: were produced and/or exported by Yama; were the subject of Commerce's Final Results; and were entered, or withdrawn from warehouse, for consumption, during the period January 1, 2018, through December 31, 2018. These entries will remain enjoined pursuant to the terms of the injunction during the pendency of any appeals process.

In the event the CIT's ruling is not appealed, or, if appealed, upheld by a final and conclusive court decision, Commerce intends to instruct CBP to assess countervailing duties on unliquidated entries of subject merchandise produced and/or exported by Yama in accordance with 19 CFR 351.212(b). We will instruct CBP to assess countervailing duties on all appropriate entries covered by this review when the ad valorem rate is not zero or de minimis. Where an ad valorem subsidy rate is zero or de minimis,⁸ we will instruct CBP to liquidate the appropriate entries without regard to countervailing duties.

⁸ See 19 CFR 351.106(c)(2).

Notification to Interested Parties

This notice is issued and published in accordance with sections 516A(c) and (e) and 777(i)(1) of the Act.

Dated: August 21, 2024.
Ryan Majerus,
Deputy Assistant Secretary for Policy and Negotiations, performing the non-exclusive functions and duties of the Assistant Secretary for Enforcement and Compliance.

[FR Doc. 2024-19199 Filed 8-26-24; 8:45 am]

BILLING CODE 3510-DS-P